DEPARTMENT OF THE INTERIOR

Bureau of Land Management

[NM-952-04-1420-BJ]

Notice of Filing of Plats of Survey; New Mexico

AGENCY: Bureau of Land Management, Interior.

ACTION: Notice.

SUMMARY: The plats of survey described below are scheduled to be officially filed in the New Mexico State Office, Bureau of Land Management, Santa Fe, New Mexico, (30) thirty calendar days from the date of this publication.

SUPPLEMENTARY INFORMATION:

New Mexico Principal Meridian, New Mexico

The plat representing the dependent resurvey and survey in Township 9 South, Range 15 East, of the Fort Stanton Military Reservation, accepted April 2, 2004, for Group 928 New Mexico.

The plat (in 2 sheets) representing the dependent resurvey of the Nambe Pueblo Grant, in Townships 19 and 20 North, Ranges 9 and 10 East, accepted April 6, 2004, for Group 974 New Mexico.

The plat representing the dependent resurvey and survey in sections 5 and 6, Township 8 North, Range 18 West, accepted February 10, 2004, for Group 985 New Mexico.

The plat, constituting the entire survey record, representing the dependent resurvey and survey in section 29, Township 20 South, Range 8 West, accepted May 17, 2004, for Group 990 New Mexico.

The plat representing the dependent resurvey and survey in sections 24 and 25, Township 19 North, Range 10 East, accepted February 23, 2004, for Group 991 New Mexico.

The plat representing the dependent resurvey and survey of the Isleta Tract and section 9, Township 8 North, Range 6 East, accepted February 10, 2004, for Group 996 New Mexico.

The plat (in 2 sheets), representing the dependent resurvey of the Sandia Pueblo Grant, in Township 11 North, Range 3 East, accepted May 7, 2004, for Group 1000 New Mexico.

The plat (in 4 sheets), representing the dependent resurvey and survey in sections 15, 23, 24, and 25, Township 13 North, Range 3 East, accepted June 4, 2004, for Group 1004 New Mexico.

The plat representing the dependent resurvey and survey in section 30, Township 13 North, Range 4 East, accepted June 4, 2004, for Group 1004 New Mexico.

The plat representing the dependent resurvey and survey of the Acoma Pueblo Grant, in Township 10 North, Range 7 West, accepted May 19, 2004, for Group 1009 New Mexico.

The plat, constituting the entire survey record, representing the dependent resurvey in section 31, Township 23 South, Range 1 West, accepted February 27, 2004, for Group 1014 New Mexico.

The plat representing the dependent resurvey and survey of the Isleta Pueblo Grant and section 6, Township 8 North, Range 3 East, accepted April 26, 2004, for Group 1016 New Mexico.

The plat representing the dependent resurvey and survey in section 6, Township 8 North, Range 3 West, accepted April 19, 2004, for Group 1017 New Mexico.

The plat representing the survey of the Boyd Ranch Tract within the Tierra Amarilla Grant, accepted May 19, 2004, for Group 1022 New Mexico.

Indian Meridian, Oklahoma

The plat representing the dependent resurvey and survey in section 4, Township 3 North, Range 8 East, accepted April 1, 2004, for Group 78 Oklahoma.

The plat representing the dependent resurvey and survey of the Chickasaw-Choctaw nation boundary and sections 22, 27, 28 and 34, Township 4 North, Range 8 East, accepted April 1, 2004, for Group 78 Oklahoma.

The plat representing the dependent resurvey and survey in section 7, Township 24 North, Range 5 East, accepted April 23, 2004, for Group 110 Oklahoma.

Texas

The plate, in 4 sheets, representing the dependent resurvey of the Crossbar Ranch, in Potter County, Texas, accepted May 6, 2004, for Group 7 Texas.

The plat, constituting the entire record, representing Section 78, Block 9, in Potter County, Texas, accepted June 8, 2004, for Group 8 Texas.

If a protest against a survey, as shown on any of the above plats is received prior to the date of official filing, the filing will be stayed pending consideration of the protest. A plat will not be officially filed until the day after all protests have been dismissed and become final or appeals from the dismissal affirmed.

A person or party who wishes to protest against any of these surveys must file a written protest with the New Mexico State Director, Bureau of Land Management, stating that they wish to protest.

A statement of reasons for a protest may be filed with the notice of protest to the State Director, or the statement of reasons must be filed with the State Director within thirty (30) days after the protest is filed.

FOR FURTHER INFORMATION CONTACT: These plats will be available for inspection in the New Mexico State Office, Bureau of Land Management, P.O. Box 27115, Santa Fe, New Mexico, 87502-0115. Copies may be obtained from this office upon payment of $1.10 per sheet.

Dated: June 18, 2004.
Robert Casias,
Chief Cadastral Surveyor for New Mexico.

[FR Doc. 04-15281 Filed 7-6-04; 8:45 am]

BILLING CODE 4310-FB-M